DEPARTMENT OF TRANSPORTATION

Federal Aviation Administration

14 CFR Part 39

[Docket No. FAA-2005-22791; Directorate Identifier 2005-NM-083-AD]

RIN 2120-AA64

Airworthiness Directives; BAE Systems (Operations) Limited Model BAe 146-100A and -200A Series Airplanes

AGENCY: Federal Aviation Administration (FAA), Department of Transportation (DOT).

ACTION: Notice of proposed rulemaking (NPRM).

SUMMARY: The FAA proposes to adopt a new airworthiness directive (AD) for all BAE Systems (Operations) Limited Model BAe 146-100A and -200A series airplanes. This proposed AD would require inspecting the nose landing gear (NLG) assembly to determine the part number of the NLG main fitting subassembly. For subject NLG main fitting subassemblies, this proposed AD would also require determining the total number of accumulated landings on a subject NLG main fitting subassembly, and eventually replacing the NLG assembly. This proposed AD results from a report indicating that the airplane maintenance manual contains incorrect safe-life limit information for certain NLG assemblies. We are proposing this AD to ensure that affected NLG fitting subassemblies are removed from service before they reach their approved safe-life limit. Operating with an NLG fitting subassembly that is beyond its approved safe-life limit could result in failure of the NLG and consequent loss of directional control on the ground and major structural damage to the airplane.

DATES: We must receive comments on this proposed AD by November 28, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact British Aerospace Regional Aircraft American Support, 13850 Mclearen Road, Herndon, Virginia 20171, for service information identified in this proposed AD.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Comments Invited

We invite you to submit any relevant written data, views, or arguments regarding this proposed AD. Send your comments to an address listed in the ADDRESSES section. Include the docket number “FAA-2005-22791; Directorate Identifier 2005-NM-083-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Civil Aviation Authority (CAA), which is the airworthiness authority for the United Kingdom, notified us that an unsafe condition may exist on all BAE Systems (Operations) Limited Model BAe 146-100A and -200A series airplanes. The CAA advises that Chapter 5 of the airplane maintenance manual (AMM) may contain incorrect safe-life limit information for certain nose landing gear (NLG) assemblies. Operating with an NLG fitting subassembly that is beyond its approved safe-life limit could lead to fatigue cracking of the main fitting of the NLG. This condition, if not corrected, could result in failure of the NLG and consequent loss of directional control on the ground and major structural damage to the airplane.

Relevant Service Information

BAE Systems has issued Service Bulletin ISB.32-169, dated October 4, 2004. The service bulletin describes procedures for inspecting the NLG assembly to determine the part number of the NLG main fitting subassembly. If a subassembly having a subject part number is installed, the service bulletin specifies determining the total accumulated landings on the subassembly (since it was new or overhauled); eventually replacing the NLG assembly with a new, serviceable, or overhauled NLG assembly; and returning the replaced NLG assembly to Messier-Dowty or an overhaul facility. (For the purposes of this proposed AD, a serviceable NLG is one on which the part number of the NLG main fitting subassembly has been identified and the number of landings has been determined if necessary.) Accomplishing the actions specified in the service information is intended to adequately address the unsafe condition. The CAA mandated the service information and issued British airworthiness directive G-2005-0001, dated January 12, 2005, to ensure the continued airworthiness of these airplanes in the United Kingdom.

BAE Systems Service Bulletin ISB.32-169 refers to Messier-Dowty Service Bulletin 146-32-155, dated July 16, 2004, as an additional source of service information for inspecting to determine the part number of the NLG main fitting subassembly, determining the number of accumulated landings on the NLG main fitting subassembly, and replacing the NLG assembly.

FAA's Determination and Requirements of the Proposed AD

These airplane models are manufactured in the United Kingdom and are type certificated for operation in the United States under the provisions of section 21.29 of the Federal Aviation Regulations (14 CFR 21.29) and the applicable bilateral airworthiness agreement. Pursuant to this bilateral airworthiness agreement, the CAA has kept the FAA informed of the situation described above. We have examined the CAA's findings, evaluated all pertinent information, and determined that we need to issue an AD for airplanes of this type design that are certificated for operation in the United States.

Therefore, we are proposing this AD, which would require accomplishing the actions specified in BAE Systems Service Bulletin ISB.32-169, described previously.

Costs of Compliance

This proposed AD would affect about 18 airplanes of U.S. registry. The proposed inspection would take about 1 work hour per airplane, at an average labor rate of $65 per work hour. Based on these figures, the estimated cost of the proposed AD for U.S. operators is $1,170, or $65 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

BAE Systems (Operations) Limited (Formerly British Aerospace Regional Aircraft): Docket No. FAA-2005-22791; Directorate Identifier 2005-NM-083-AD.

Comments Due Date

(a) The FAA must receive comments on this AD action by November 28, 2005.

Affected ADs

(b) None.

Applicability

(c) This AD applies to all BAE Systems (Operations) Limited Model BAe 146-100A and -200A series airplanes, certificated in any category.

Unsafe Condition

(d) This AD results from a report indicating that the airplane maintenance manual contains incorrect safe-life limit information for certain nose landing gear (NLG) assemblies. We are issuing this AD to ensure that affected NLG fitting subassemblies are removed from service before they reach their approved safe-life limit. Operating with an NLG fitting subassembly that is beyond its approved safe-life limit could result in failure of the NLG and consequent loss of directional control on the ground and major structural damage to the airplane.

Compliance

(e) You are responsible for having the actions required by this AD performed within the compliance times specified, unless the actions have already been done.

Service Bulletin Reference

(f) The term “service bulletin,” as used in this AD, means the Accomplishment Instructions of BAE Systems Service Bulletin ISB.32-169, dated October 4, 2004.

(1) The service bulletin refers to Messier-Dowty Service Bulletin 146-32-155, dated July 16, 2004, as an additional source of service information for inspecting to determine the part number of the NLG main fitting subassembly, determining the number of accumulated landings on the NLG main fitting subassembly, and replacing the NLG assembly.

(2) Although the service bulletin specifies to submit certain information to the manufacturer and to return replaced NLG assemblies to the manufacturer or other overhaul facility, this AD does not require that action.

Inspection To Determine Part Number

(g) Within 30 days after the effective date of this AD: Inspect the nose landing gear (NLG) assembly to determine the part number of the NLG main fitting subassembly, in accordance with the service bulletin. If the part number of the NLG main fitting subassembly is not listed in paragraph 1.A.(2) of the service bulletin: This paragraph requires no further action. A review of airplane maintenance records is acceptable in lieu of this inspection if the part number of the NLG main fitting subassembly can be conclusively determined from that review.

Replacement of NLG

(h) If the part number of the NLG main fitting subassembly is listed in paragraph 1.A.(2) of the service bulletin: Determine the total accumulated landings on the subassembly (since the subassembly was new or overhauled); and replace the NLG with a new, serviceable, or overhauled subassembly; in accordance with the service bulletin. (For the purposes of this AD, a serviceable NLG is one on which the NLG main fitting subassembly has been identified, the number of landings has been determined, and the number of landings does not exceed the limits specified in this AD, as applicable.) Do the actions specified in this paragraph at the applicable time specified in paragraph (h)(1) or (h)(2) of this AD, or within 500 landings after the effective date of this AD, whichever is later. A review of airplane maintenance records is acceptable in lieu of this inspection if the total accumulated landings on the subassembly (since the subassembly was new or overhauled) can be conclusively determined from that review.

(1) If the NLG has not been overhauled previously: Prior to the accumulation of 35,000 total landings on the NLG.

(2) If the NLG has been overhauled previously: Within 8,000 landings since the most recent overhaul.

Parts Installation

(i) After the effective date of this AD, no person may install an NLG that is equipped with a main fitting subassembly having a part number listed in paragraph 1.A.(2) of the service bulletin, unless all of the applicable actions in paragraphs (g) and (h) of this AD have been done.

Alternative Methods of Compliance (AMOCs)

(j)(1) The Manager, International Branch, ANM-116, Transport Airplane Directorate, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(k) British airworthiness directive G-2005-0001, dated January 12, 2005, also addresses the subject of this AD.

Issued in Renton, Washington, on October 18, 2005.
Kevin M. Mullin,
Acting Manager, Transport Airplane Directorate, Aircraft Certification Service.

[FR Doc. 05-21437 Filed 10-26-05; 8:45 am]

BILLING CODE 4910-13-P